DEPARTMENT OF THE INTERIOR

National Park Service

Draft Environmental Impact Statement/General Management Plan, Crater Lake National Park, Douglas, Jackson and Klamath Counties, Oregon; Notice of Availability

SUMMARY: Pursuant to section 102(2)(C) of the National Environmental Policy Act of 1969 (Pub. L. 91-190, as amended), and the Council on Environmental Quality Regulations (40 CFR part 1500-1508), the National Park Service (NPS), Department of the Interior, has prepared a draft general management plan (GMP) and environmental impact statement (EIS) for Crater Lake National Park, Oregon. The draft GMP identifies and analyzes four alternatives which respond to both NPS planning requirements and to the issues identified during the public scoping process. The “no-action” alternative (Alternative 1) describes the existing conditions and trends of park management and serves as a baseline for comparison in evaluating the other alternatives. The three “action” alternatives variously address visitor use, natural and cultural resource management, and park development. Alternative 2, the preferred alternative, emphasizes increased opportunities in recreational diversity, resource preservation, research and resource education. Under Alternative 3 visitors would experience a greater range of natural and cultural resources through recreational opportunities and education. The focus of Alternative 4 would be on preservation and restoration of natural processes.

Scoping: Public meetings and newsletters have been used to keep the public informed and involved in the conservation planning and environmental impact analysis process for the draft GMP. A mailing list was compiled that consisted of members of government agencies, nongovernmental groups, businesses, legislators, local governments, and interested citizens.

The Notice of Intent to prepare an EIS was published in the Federal Register on May 25, 2001. A newsletter issued January 2001 introduced the GMP planning process (a total of 72 written comments were received in response). Public meetings were held during April 2001 in Klamath Falls, Medford, Roseburg, and Salem and were attended by 96 people. A second newsletter issued in July 2001 summarized all comments received in the meetings and in response to newsletter 1. These comments were used to complete the park purpose and significance statements that serve as the foundation for the rest of the GMP planning (and were referred to throughout development of the draft GMP).

A third newsletter distributed in the spring of 2002 described the draft alternative concepts and management zoning proposed for managing the park (a total of 95 comments were received in response). In general, opinions were fairly divided in support of individual alternatives and potential ways to address issues. A number of letters favored continued snowmobile use, while other people favored elimination of snowmobiles in the park. Opinions were divided regarding ways to manage traffic congestion on Rim Drive—maintaining current two-way traffic, converting part of the road to one-way traffic, using shuttles, or closure of the road to traffic. Most respondents favored use of shuttles. A number of people who opposed partnering with private industry were concerned with the potential of large-scale commercialization within the park.

Proposed Plan and Alternatives: Alternative 1 is the “no action” alternative and represents continuation of the current management direction and approach at the park. It is a way of evaluating the proposed actions of the other three alternatives. Existing buildings and facilities in the park would remain; some historic structures would be adaptively used. Munson Valley would continue to serve as the center of NPS administration, maintenance, and housing. The existing road access and circulation system within the park would continue, and visitor recreational opportunities and interpretive programs in the park would continue.

Alternative 2 is the agency preferred alternative and has also been determined to be the “environmentally preferred” alternative. Management of the park would emphasize increased opportunities for recreational diversity and research and education. Most recreational opportunities would remain, but new opportunities along Rim Drive would allow visitors to directly experience the primary resource of Crater Lake in ways other than driving. Any new uses around the rim would be non-motorized and low impact. Research and educational opportunities would be enhanced. A new science and learning center would form the core of the new research. The park would expand and encourage partnerships with universities, scientists, and educational groups. The information gathered would be disseminated throughout the park to rangers, interpretive staff, and visitors.

Alternative 3 emphasizes enjoyment of the natural environment. This alternative would allow visitors to experience a greater range of natural and cultural resources significant and unique to the park through recreational opportunities and education. A wider range of visitor experiences would reach out to greater diversity of visitor groups. Recreational programs, which would focus on minimizing impact, would provide the focus for interpretation and education. Resources would be managed to permit recreation while protecting the resources. Opportunities for recreation would be viewed in a regional context, where the park could serve as a source of information for regional recreational opportunities. Use of most current facilities would continue. News trails, new interpretive signs and other media, and expanded tour programs would be possible in Alternative 3.

In Alternative 4, park management would be focused on resource preservation and restoration. The park would be an active partner in a regional conservation strategy that would include other agencies and environmental groups. Most park operations and visitor contact facilities would be outside the park and shared with other agencies and communities. Areas that have been altered would be restored to their natural conditions. Cultural resources would be preserved at the highest level possible. The visitor experience would stress activities that have low environmental impacts on and are harmonious with the resources. More emphasis would be place on self-guided and discovery education, and interpretive programs would focus on stewardship. Vehicular transportation would be altered to reinforce the visitor experience. The Rim Road would be closed between Cleetwood Cove and Kerr Notch. Winter use of the park would change to allow natural processes to proceed with less disturbance than current management practices allow. Winter plowing of the road to the rim would stop, except for spring opening. Snowmobiling along North Junction Road would no longer be allowed. Facilities that are not historic and not essential to park functions would be removed and the area rehabilitated. Functions that are, by necessity park-based, would be retained in the park.

Public Review and Comment: The draft EIS/GMP is now available for public review. Interested persons and organizations wishing to express any concerns or provide relevant information are encouraged to obtain the document from the Superintendent, Crater Lake National Park, P.O. Box 7, Highway 62, Crater Lake, Oregon , or via telephone at (541) 594-3001. The document may also be reviewed at area libraries, or obtained electronically via the park's Web site at www.planning.nps.gov.

Comments on the draft GMP/EIS must be postmarked (or transmitted by email) no later than 60 days after publication of EPA's notice of filing in the Federal Register (immediately upon confirming this date it will be announced on the park's Web site). Written comments may be submitted to: Terri Urbanowski, National Park Service, P.O. Box 25287, Denver, CO 80225-0287 or e-mailed to CRLA_GMP@nps.gov. All comments will become part of the public record. If individuals submitting comments request that their name or/and address be withheld from public disclosure, the request will be honored to the extent allowable by law. Such requests must be stated prominently in the beginning of the comments. There also may be circumstances wherein the NPS will withhold a respondent's identity as allowable by law. As always: the NPS will make available to public inspection all submissions from organizations or businesses and from persons identifying themselves as representatives or officials of organizations; and, anonymous comments may not be considered.

Decision: Notice of the availability of the final EIS/GMP document will be published in the Federal Register and announced via local and regional press media. Subsequently, a Record of Decision (ROD) will be prepared and approved not sooner than 30 days after the final document is distributed (and notice of the approved ROD similarly published in the Federal Register). As a delegated EIS, the official responsible for the decision is the Regional Director, Pacific West Region, National Park Service; subsequently the official responsible for implementing the approved GMP is the Superintendent, Crater Lake National Park.

Dated: March 5, 2004.
Jonathan B. Jarvis,
Regional Director, Pacific West Region.

Editorial Note: This document was received in the Office of the Federal Register on July 29, 2004.

[FR Doc. 04-17588 Filed 8-2-04; 8:45 am]

BILLING CODE 4312-52-P